DEPARTMENT OF AGRICULTURE

Forest Service

Coconino Resource Advisory Committee

AGENCY: Forest Service, USDA.

ACTION: Notice of meeting.

SUMMARY: The Coconino Resource Advisory Committee will meet in Flagstaff, Arizona, to conduct an initial review of project proposals in preparation for the proposal presentations in May. No proposals will be heard at this meeting.

DATES: The meeting will be held April 28, 2011, beginning at 12 p.m. to 5 p.m.

ADDRESSES: The meeting will be held in the Ponderosa Room of the Coconino County Health Department, 2625 N. King St., Flagstaff, Arizona, 86004. Send written comments to Brady Smith, RAC Coordinator, Coconino Resource Advisory Committee, c/o Forest Service, USDA, 1824 S. Thompson St., Flagstaff, Arizona 86001 or electronically to bradysmith@fs.fed.us.

FOR FURTHER INFORMATION CONTACT: Brady Smith, Coconino National Forest, (928) 527-3490.

Dated: March 22, 2011.
Kristin Bail,
Acting Forest Supervisor, Coconino National Forest.

[FR Doc. 2011-7209 Filed 3-25-11; 8:45 am]

BILLING CODE 3410-11-P